INTERNATIONAL TRADE COMMISSION

[Investigation No. 731-TA-1205 (Final)]

Silica Bricks and Shapes From China; Revised Schedule for the Subject Investigation

AGENCY: United States International Trade Commission.

ACTION: Notice.

DATES: Effective Date: October 23, 2013.

FOR FURTHER INFORMATION CONTACT: Cynthia Trainor (202-205-3354), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On June 20, 2013, the Commission established a schedule for the conduct of the subject investigation (78 FR 45968, July 30, 2013). The Commission did not operate between October 1, 2013 and October 16, 2013 because of a lack of appropriations. On October 21, 2013 the Commission issued a notice stating that statutory deadlines would be tolled by this disruption in its operations. The Commission, therefore, is revising its schedule to conform to the revised statutory deadlines.

The Commission's new schedule for the review is as follows: Requests to appear at the hearing must be filed with the Secretary to the Commission not later than November 13, 2013; the prehearing conference will be held at the U.S. International Trade Commission Building at 9:30 a.m. on November 15, 2013; the prehearing staff report will be placed in the nonpublic record on November 7, 2013; the deadline for filing prehearing briefs is November 14, 2013; the hearing will be held at the U.S. International Trade Commission Building at 9:30 a.m. on November 21, 2013; the deadline for filing posthearing briefs is November 27, 2013; the Commission will make its final release of information on December 5, 2013; and final party comments are due on December 9, 2013.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

Issued: October 24, 2013.
By order of the Commission.
Lisa R. Barton,
Acting Secretary to the Commission.

[FR Doc. 2013-25576 Filed 10-28-13; 8:45 am]

BILLING CODE 7020-02-P